DEPARTMENT OF ENERGY

Notice of Availability of the Draft Uranium Leasing Program Programmatic Environmental Impact Statement

AGENCY: Department of Energy.

ACTION: Notice of Availability.

SUMMARY: The U.S. Department of Energy (DOE) announces the availability of the Draft Uranium Leasing Program Programmatic Environmental Impact Statement (Draft ULP PEIS, DOE/EIS-0472D), for public comment. DOE is also announcing the dates, times, and locations for public hearings to receive comments on the Draft ULP PEIS. DOE has prepared the Draft ULP PEIS pursuant to the National Environmental Policy Act of 1969 (NEPA), the Council on Environmental Quality's (CEQ's) NEPA regulations (40 CFR parts 1500-1508), and DOE's NEPA implementing procedures (10 CFR part 1021) to analyze the reasonably foreseeable potential environmental impacts, including the site-specific impacts, of the range of reasonable alternatives for the management of the ULP. DOE's ULP administers 31 tracts of land covering an aggregate of approximately 25,000 acres (10,000 ha) in Mesa, Montrose, and San Miguel Counties in western Colorado for exploration, mine development, operations, and reclamation of uranium mines. The cooperating agencies on this ULP PEIS are the: U.S. Department of the Interior (DOI), Bureau of Land Management (BLM); U.S. Environmental Protection Agency (EPA); Colorado Department of Transportation; Colorado Division of Reclamation, Mining, and Safety; Colorado Parks and Wildlife ; Mesa County Commission; Montrose County Commission; San Juan County Commission; San Miguel County Board of Commissioners; Pueblo of Acoma Tribe; Pueblo de Cochiti Tribe; Pueblo de Isleta Tribe; Navajo Nation; and Southern Ute Indian Tribe.

DATES: DOE invites Federal agencies, state and local governments, Native American tribes, industry, other interested organizations, and members of the public to comment on the Draft ULP PEIS during the 60-day public comment period, which ends on May 16, 2013. Comments received after this date will be considered to the extent practicable. DOE will hold public hearings on the Draft ULP PEIS; the dates, times and locations are listed under SUPPLEMENTARY INFORMATION.

ADDRESSES: Please direct written comments on the Draft ULP PEIS to Mr. Raymond Plieness, ULP PEIS Document Manager, Office of Legacy Management, U.S. Department of Energy, 11025 Dover Street, Suite 1000, Westminster, CO 80021. Comments may also be submitted via email to ulpeis@anl.gov or via the internet at http://ulpeis.anl.gov/. DOE will give equal weight to written, email, and oral comments. Questions regarding the ULP PEIS process, requests to be placed on the ULP PEIS mailing list, and requests for copies of the document should be directed to Mr. Plieness by the means given above.

FOR FURTHER INFORMATION CONTACT: For general information about the NEPA process, please contact: Ms. Carol M. Borgstrom, Director, Office of NEPA Policy and Compliance, GC-54, U.S. Department of Energy, 1000 Independence Avenue SW., Washington, DC 20585, Telephone: (202) 586-4600, leave a message at 1-800-472-2756, or send an email to Ask NEPA@hq.doe.gov.

SUPPLEMENTARY INFORMATION: Congress authorized DOE's predecessor agency, the U.S. Atomic Energy Commission (AEC), to develop a supply of domestic uranium. In 1948, the BLM issued Public Land Order (PLO) 459, which stated, “Subject to valid existing rights and existing withdrawals, the public lands and the minerals reserved to the United States in the patented lands in the following areas in Colorado are hereby withdrawn from all forms of appropriation under the public-land laws, including the mining laws but not the mineral-leasing laws, and reserved for the use of the United States Atomic Energy Commission.” Subsequently, other PLOs increased or decreased the total acreage of the withdrawn lands. In addition, the Federal Government, through the Union Mines Development Corporation, acquired a substantial number of patented and unpatented mining claims, mill and tunnel site claims, and agricultural patents, until the aggregated acreage managed by AEC totaled approximately 25,000 acres (10,000 ha). The areas under consideration are located in western Colorado in Mesa, Montrose, and San Miguel Counties.

In July 2007, DOE issued a Programmatic Environmental Assessment (PEA) for the ULP, in which it examined three alternatives for the management of the ULP for the next 10 years. In that same month, DOE issued a Finding of No Significant Impact (FONSI), in which DOE announced its decision to proceed with the Expanded Program Alternative, and also determined that preparation of an environmental impact statement was not required. Under the Expanded Program Alternative, DOE would extend the 13 existing leases for a 10-year period and would also expand the ULP to include the competitive offering of up to 25 additional lease tracts to the domestic uranium industry.

In 2008, DOE implemented the Expanded Program Alternative and executed new lease agreements with the existing lessees for their 13 respective lease tracts, effective April 30, 2008. In addition, DOE offered the remaining, inactive lease tracts to industry for lease through a competitive solicitation process. That process culminated in the execution of 18 new lease agreements for the inactive lease tracts, effective June 27, 2008. Since that time, two lease tracts were combined into one and another lease was relinquished back to DOE. Accordingly, there are 29 lease tracts that are actively held under lease and 2 lease tracts that are currently inactive.

On June 21, 2011, DOE published a Notice of Intent (NOI) to prepare this PEIS (see Volume 76, page 36097 of the Federal Register [76 FR 36097]). In the NOI, DOE stated that it had determined, in light of the site-specific information that DOE had gathered as a result of the site-specific agency actions proposed and approved pursuant to the July 2007 PEA, that it was appropriate for DOE to prepare a PEIS in order to analyze the reasonably foreseeable environmental impacts, including the site-specific impacts, of a range of alternatives for the management of the ULP for the remainder of the 10-year period that was covered by the July 2007 PEA. After DOE published the NOI, it notified the ULP lessees that until the PEIS process was completed, DOE would not approve any new exploration and mining plans and would not require any lessees to pay royalties.

After DOE published its NOI, the U.S. District Court for the District of Colorado issued two Orders in a lawsuit in which plaintiffs had alleged that DOE's July 2007 PEA and FONSI violated NEPA and the Endangered Species Act (ESA). Colorado Environmental Coalition v. DOE, No. 08-cv-1624 (D. Colo.). In its first Order, issued on Oct. 18, 2011, the Court, among other things, invalidated the July 2007 PEA and FONSI; stayed the ULP leases; and ordered that after DOE conducts an environmental analysis that complies with NEPA, ESA, all other governing statutes and regulations, and that Order, DOE could then move the Court to dissolve its injunction enjoining DOE from approving any activities on ULP lands. In the Court's second Order, issued on Feb. 27, 2012, the Court granted in part DOE's motion for reconsideration of the first Order, and amended its injunction to allow DOE, other Federal, state, or local governmental agencies, and/or the ULP lessees to conduct certain activities that are absolutely necessary on ULP lands.

DOE has prepared the Draft ULP PEIS to analyze alternatives that address the range of reasonable alternatives for the management of the ULP. Site-specific information available on the 31 lease tracts (including current lessee information and status, size of each lease tract, previous mining operations, location of existing permitted mines and associated structures, and other environmental information) has been utilized as the basis for the evaluation contained in the Draft ULP PEIS.

For the Draft ULP PEIS, DOE is complying with Executive Order (E.O.) 13175 and with Section 7 of the Endangered Species Act by engaging in consultation on a government-to-government basis with Native American tribes and with the U. S. Fish and Wildlife Service, respectively.

Alternatives

Five alternatives are analyzed in the Draft ULP PEIS as follows: (1) Alternative 1: DOE would terminate all leases, and all operations would be reclaimed by lessees. DOE would continue to manage the withdrawn lands, without leasing, in accordance with applicable requirements; (2) Alternative 2: Same as Alternative 1, except once reclamation was completed by lessees, DOE would relinquish the lands in accordance with 43 CFR part 2370. If DOI/BLM determines, in accordance with that same part of the CFR, the lands were suitable to be managed as public domain lands, they would be managed by BLM under its multiple use policies. DOE's uranium leasing program would end; (3) Alternative 3: DOE would continue the ULP as it existed before July 2007 with the 13 then-active leases, for the next 10-year period or for another reasonable period, and DOE would terminate the remaining leases; (4) Alternative 4: DOE would continue the ULP with the 31 lease tracts for the next 10-year period or for another reasonable period; and (5) Alternative 5: This is the No Action Alternative, under which DOE would continue the ULP with the 31 lease tracts for the remainder of the 10-year period, as the leases were when they were issued in 2008.

DOE's preferred alternative is Alternative 4. That is, DOE would continue the ULP with the 31 lease tracts for the next 10-year period or for another reasonable period.

Public Hearings and Invitation to Comment

DOE will hold four public hearings on the Draft ULP PEIS at the following locations, dates, and locations:

• Grand Junction, Colorado, April 22, 2013 from 6:30 to 9 p.m. at the Colorado Mesa University, University Center Ballroom, 1455 N. 12th St., Grand Junction, Co.

• Montrose, Colorado, April 23, 2013 from 6:30 to 9 p.m. at the Johnson Elementary School, 13820 67.00 Road, Montrose, CO.

• Telluride, Colorado, April 24, 2013 from 6:30 to 9 p.m. at the Telluride Middle/High School, 725 W Colorado Avenue, Telluride, Co.

• Naturita, Colorado, April 25, 2013 from 6:30 to 9 p.m. at the Naturita School, 141 W Main St., Naturita, Co.

The public hearings will begin with an open-house format with subject matter experts from DOE available to answer questions on the ULP and Draft ULP PEIS. The public hearing portion of the meeting will run from 7 p.m. through 9 p.m. Individuals who would like to present comments orally at these hearings should register upon arrival at the hearing or register via the internet at http://ulpeis.anl.gov/ before the public hearing dates. Members of the general public are invited to attend the hearings at their convenience any time during hearing hours and submit their comments in writing, or in person to a court reporter. Written comments on the Draft ULP PEIS may also be submitted to the address shown above under ADDRESSES or on the Internet at http://ulpeis.anl.gov/.

The Draft ULP PEIS is also available for review on the ULP PEIS Web site at http://ulpeis.anl.gov/ or the DOE NEPA Web site at http://www.energy.gov/nepa and at the following reading rooms:

• Nucla Public Library, 544 Z Rd., Nucla, CO 81424-0129, (970) 864-2166.

• Montrose Regional Library, 320 S. 2nd St., Montrose, CO 81401, (970) 249-9656.

• Naturita Public Library, 411 West Second Ave., Naturita, CO 81422, (970) 865-2848.

• Blanding Branch Library, 25 West 300 South, Blanding, UT 84511, (435) 978-2335.

• Mesa County Public Library, 655 N. 1st St., Grand Junction, CO 81501, (970) 683-2449.

• Norwood Public Library, 1110 Lucerne St., Norwood, CO 81423, (970) 327-4833.

• Dolores County Public Library, 525 N Main St., Dove Creek, CO 81324, (970) 677-2356.

• Wilkinson Public Library, 100 W Pacific Ave., Telluride, CO 81435, (970) 728-4519.

• Grand County Public Library, 257 East Center St., Moab, UT 84532, (435) 259-1111.

• San Juan County Library, 80 North Main St., Monticello, UT 84535-0066, (435) 587-2281.

Following the end of the public comment period on the Draft ULP PEIS described above, DOE will consider and respond to comments received during the comment period in the Final Uranium Leasing Program Programmatic Environmental Impact Statement. Comments received after the end of the comment period will be considered to the extent practicable. DOE decision-makers will consider the environmental impact analyses presented in the Final document, including public comments and other information, in making decisions related to the Final ULP PEIS.

Issued in Washington, DC, on March 5, 2013.
David W. Geiser,
Director, Office of Legacy Management.

[FR Doc. 2013-05777 Filed 3-14-13; 8:45 am]

BILLING CODE 6450-01-P